OFFICE OF THE UNITED STATES TRADE REPRESENTATIVE

Notice of Product Exclusions: China's Acts, Policies, and Practices Related to Technology Transfer, Intellectual Property, and Innovation

AGENCY: Office of the United States Trade Representative.

ACTION: Notice of product exclusions.

SUMMARY: Effective July 6, 2018, the U.S. Trade Representative (Trade Representative) imposed additional duties on goods of China with an annual trade value of approximately $34 billion (the $34 billion action) as part of the action in the Section 301 investigation of China's acts, policies, and practices related to technology transfer, intellectual property, and innovation. The Trade Representative's determination included a decision to establish a product exclusion process. The Trade Representative initiated the exclusion process in July 2018, and stakeholders have submitted requests for the exclusion of specific products. In December 2018, March 2019, April 2019, May 2019, and June 2019, the Trade Representative granted exclusion requests. This notice announces the Trade Representative's determination to grant additional exclusion requests, as specified in the Annex to this notice. The Trade Representative will continue to issue decisions on pending requests on a periodic basis.

DATES: The product exclusions announced in this notice will apply as of the July 6, 2018 effective date of the $34 billion action, and will extend for one year after the publication of this notice. U.S. Customs and Border Protection will issue instructions on entry guidance and implementation.

FOR FURTHER INFORMATION CONTACT: For general questions about this notice, contact Assistant General Counsels Philip Butler or Megan Grimball, or Director of Industrial Goods Justin Hoffmann at (202) 395-5725. For specific questions on customs classification or implementation of the product exclusions identified in the Annex to this notice, contact traderemedy@cbp.dhs.gov.

SUPPLEMENTARY INFORMATION:

A. Background

For background on the proceedings in this investigation, please see the prior notices issued in the investigation, including 82 FR 40213 (August 23, 2017), 83 FR 14906 (April 6, 2018), 83 FR 28710 (June 20, 2018), 83 FR 33608 (July 17, 2018), 83 FR 38760 (August 7, 2018), 83 FR 40823 (August 16, 2018), 83 FR 47974 (September 21, 2018), 83 FR 65198 (December 19, 2018), 83 FR 67463 (December 28, 2018), 84 FR 7966 (March 5, 2019), 84 FR 11152 (March 25, 2019), 84 FR 16310 (April 18, 2019), 84 FR 21389 (May 14, 2019), and 84 FR 25895 (June 4, 2019).

Effective July 6, 2018, the Trade Representative imposed additional 25 percent duties on goods of China classified in 818 8-digit subheadings of the Harmonized Tariff Schedule of the United States (HTSUS), with an approximate annual trade value of $34 billion. See 83 FR 28710. The Trade Representative's determination included a decision to establish a process by which U.S. stakeholders may request exclusion of particular products classified within an 8-digit HTSUS subheading covered by the $34 billion action from the additional duties. The Trade Representative issued a notice setting out the process for the product exclusions, and opened a public docket. See 83 FR 32181 (the July 11 notice).

Under the July 11 notice, requests for exclusion had to identify the product subject to the request in terms of the physical characteristics that distinguish the product from other products within the relevant 8-digit subheading covered by the $34 billion action. Requestors also had to provide the 10-digit subheading of the HTSUS most applicable to the particular product requested for exclusion, and could submit information on the ability of U.S. Customs and Border Protection to administer the requested exclusion. Requestors were asked to provide the quantity and value of the Chinese-origin product that the requestor purchased in the last three years. With regard to the rationale for the requested exclusion, requests had to address the following factors:

• Whether the particular product is available only from China and specifically whether the particular product and/or a comparable product is available from sources in the United States and/or third countries.

• Whether the imposition of additional duties on the particular product would cause severe economic harm to the requestor or other U.S. interests.

• Whether the particular product is strategically important or related to “Made in China 2025” or other Chinese industrial programs.

The July 11 notice stated that the Trade Representative would take into account whether an exclusion would undermine the objective of the Section 301 investigation.

The July 11 notice required submission of requests for exclusion from the $34 billion action no later than October 9, 2018, and noted that the Trade Representative would periodically announce decisions. In December 2018, the Trade Representative granted an initial set of exclusion requests. See 83 FR 67463. The Trade Representative granted a second, third, fourth and fifth set of exclusions in March 2019, April 2019, May 2019, and June 2019. See 84 FR 11152, 84 FR 16310, 84 FR 21389, and 84 FR 25895. The Office of the United States Trade Representative regularly updates the status of each pending request and posts the status within the web pages for the respective tariff action they apply to at https://ustr.gov/issue-areas/enforcement/section-301-investigations/tariff-actions.

B. Determination To Grant Certain Exclusions

Based on the evaluation of the factors set out in the July 11 notice, which are summarized above, pursuant to sections 301(b), 301(c), and 307(a) of the Trade Act of 1974, as amended, and in accordance with the advice of the interagency Section 301 Committee, the Trade Representative has determined to grant the product exclusions set out in the Annex to this notice. The Trade Representative's determination also takes into account advice from advisory committees and any public comments on the pertinent exclusion requests.

As set out in the Annex to this notice, the exclusions are reflected in 110 specially prepared product descriptions, which cover 362 separate exclusion requests.

In accordance with the July 11 notice, the exclusions are available for any product that meets the description in the Annex, regardless of whether the importer filed an exclusion request. Further, the scope of each exclusion is governed by the scope of the product descriptions in the Annex to this notice, and not by the product descriptions set out in any particular request for exclusion.

Paragraph A, subparagraphs (3)-(5) are conforming amendments to the HTSUS reflecting the modification made by the Annex to this notice.

Paragraph B of the Annex to this notice modifies U.S. note 20(k)(26) to subchapter III of chapter 99 of the Harmonized Tariff Schedule of the United States, as set out in the Annex of the notice published at 84 FR 21389 (May 14, 2019).

In order to clarify the periodic revisions to the HTSUS, paragraph C of the Annex modifies the text to U.S. note 20(m)(27) to subchapter III of chapter 99 of the Harmonized Tariff Schedule of the United States, as set out in the Annex of the notice published at 84 FR 25895 (June 4, 2019).

Paragraphs D and E of the Annex to this notice correct a typographical error in U.S. notes 20(m)(53) and 20(m)(54) to subchapter III of chapter 99 of the Harmonized Tariff Schedule of the United States, as set out in the Annex of the notice published at 84 FR 25895 (June 4, 2019).

As stated in the July 11 notice, the exclusions will apply as of the July 6, 2018 effective date of the $34 billion action, and extend for one year after the publication of this notice. U.S. Customs and Border Protection will issue instructions on entry guidance and implementation.

The Trade Representative will continue to issue determinations on pending requests on a periodic basis.

Joseph Barloon,
General Counsel, Office of the U.S. Trade Representative.

Annex

A. Effective with respect to goods entered for consumption, or withdrawn from warehouse for consumption, on or after 12:01 a.m. eastern daylight time on July 6, 2018, subchapter III of chapter 99 of the Harmonized Tariff Schedule of the United States (HTSUS) is modified:

1. By inserting the following new heading 9903.88.11 in numerical sequence, with the material in the new heading inserted in the columns of the HTSUS labeled “Heading/Subheading”, “Article Description”, and “Rates of Duty 1-General”, respectively:

Heading/ subheading | Article description | Rates of duty: 1: General | Rates of duty: 1: Special | Rates of duty: 2
“9903.88.11 | Articles the product of China, as provided for in U.S. note 20(n) to this subchapter, each covered by an exclusion granted by the U.S. Trade Representative | The duty provided in the applicable subheading”

2. by inserting the following new U.S. note 20(n) to subchapter III of chapter 99 in numerical sequence:

“(n) The U.S. Trade Representative determined to establish a process by which particular products classified in heading 9903.88.01 and provided for in U.S. notes 20(a) and 20(b) to this subchapter could be excluded from the additional duties imposed by heading 9903.88.01. See 83 FR 28710 (June 20, 2018) and 83 FR 32181 (July 11, 2018). Pursuant to the product exclusion process, the U.S. Trade Representative has determined that the additional duties provided for in heading 9903.88.01 shall not apply to the following particular products, which are provided for in the enumerated statistical reporting numbers:

(1) Heat exchangers, the foregoing comprising parts of goods of heading 8402 and each fitted for heat recovery steam generator (described in statistical reporting number 8402.90.0010)

(2) Drums, exhaust stacks, and inlet duct panel assemblies of heat recovery steam generators (described in statistical reporting number 8402.90.0090)

(3) Water tanks for steam or other vapor generating boilers (described in statistical reporting number 8402.90.0090)

(4) Compression-ignition engines with maximum power exceeding 50 kW but not exceeding 120 kW, each valued over $6,000 but not over $9,500 per unit (described in statistical reporting number 8408.90.9010)

(5) Compression-ignition engines, exceeding 149.2 kW but not exceeding 373 kW and valued over $9,800 but not over $12,000 (described in statistical reporting number 8408.90.9020)

(6) Aircraft gas turbine compressor cases of steel and Inconel alloy, each valued over $3,000 but not over $4,000 (described in statistical reporting number 8411.99.9090)

(7) Engine stationary seal air supports of Inconel alloy, each measuring over 35 cm but not over 35.5 cm in outer diameter and over 3.5 cm but not over 4 cm in width (described in statistical reporting number 8411.99.9090)

(8) Direct acting and spring return pneumatic actuators, each rated at a maximum pressure of 10 bar and valued over $68 but not over $72 per unit (described in statistical reporting number 8412.39.0080)

(9) Spring-operated motors, each valued over $3,000 but not over $3,600 (described in statistical reporting number 8412.80.1000)

(10) Gear-type hydraulic fluid power pumps, handheld, battery powered, the foregoing not over 5 cm in width and valued not over $6 per unit (described in statistical reporting number 8413.60.0030)

(11) Centrifugal water pumps incorporating thermal cut-offs, each with discharge outlet 5.08 cm or more in diameter, valued over $66 but not over $72 per unit (described in statistical reporting number 8413.70.2015)

(12) Motor vehicle oil pump housings (described in statistical reporting number 8413.91.9010)

(13) Impellers (described in statistical reporting number 8413.91.9095)

(14) Parts of oil and gas extraction beam pumps, other than hydraulic power pumps (described in statistical reporting number 8413.91.9095)

(15) Pedestals of pump assemblies (described in statistical reporting number 8413.91.9095)

(16) Pump bases, of plastic, designed to protect the pump impellers from obstructions (described in statistical reporting number 8413.91.9095)

(17) Pump casings and bodies (described in statistical reporting number 8413.91.9095)

(18) Pump covers (described in statistical reporting number 8413.91.9095)

(19) Pump expellers (described in statistical reporting number 8413.91.9095)

(20) Pump grease cups and grease cup adapters (described in statistical reporting number 8413.91.9095)

(21) Pump liners (described in statistical reporting number 8413.91.9095)

(22) Pump manifolds (described in statistical reporting number 8413.91.9095)

(23) Pump parts, of plastics, each valued not over $3 (described in statistical reporting number 8413.91.9095)

(24) Pump shaft castings, of steel (described in statistical reporting number 8413.91.9095)

(25) Pump throatbushes (described in statistical reporting number 8413.91.9095)

(26) Pump volutes (described in statistical reporting number 8413.91.9095)

(27) Structural pump bases, of stainless steel (described in statistical reporting number 8413.91.9095)

(28) Compressors, other than screw type, used in air conditioning equipment in motor vehicles, each valued over $88 but not over $92 per unit (described in statistical reporting number 8414.30.8030)

(29) Compressors, other than screw type, of a kind used in household refrigerators, air conditioners and heat pumps, rated at more than ¼ horsepower but not more than 1 horsepower, each valued not over $150 (described in statistical reporting number 8414.30.8050)

(30) Fork-lift trucks, propane gas powered, having a rated lift capacity over 9.5 metric tons but not exceeding 33 metric tons (described in statistical reporting number 8427.20.8090)

(31) Motor grader weighing more than 14 metric tons but not over 21 metric tons (described in statistical reporting number 8429.20.0000)

(32) Self-propelled pneumatic compactors, each weighing over 14 metric tons but not over 28 metric tons (described in statistical reporting number 8429.40.0040)

(33) New articulated shovel loaders, wheeled, each with 4-wheel drive, rear mounted engine and a bucket capacity of under 1.5 m³, rated at not over 26 horsepower (described in statistical reporting number 8429.51.1015)

(34) Integrated tractor shovel loaders, each with 4 wheel drive, a bucket capacity of at least 3.8 m³ but less than 5.2 m³ and an operating weight of 17.5 metric tons or more but not over 20 metric tons (described in statistical reporting number 8429.51.1040)

(35) Shovel loaders with an operating weight of from 30 metric tons to 36 metric tons (described in statistical reporting number 8429.51.1045)

(36) Shovel loaders with an operating weight of from 30 metric tons to 36 metric tons (described in statistical reporting number 8429.51.1050)

(37) Rubber track shovel loaders having a lift capacity not over 375 kg (described in statistical reporting number 8429.51.5010)

(38) Grooved wire rope drum valued over $350 (described in statistical reporting number 8431.10.0010)

(39) Escalator drive assemblies consisting of a motor, planetary gear and gearbox (described in statistical reporting number 8431.31.0040)

(40) Escalator steps (described in statistical reporting number 8431.31.0040)

(41) Parts of passenger or freight elevators consisting of any of the following: Elevator emergency brake and speed governor apparatus, scissor lift assemblies, telescoping boom lift assemblies or articulating boom lift assemblies (described in statistical reporting number 8431.31.0060)

(42) Counterweights for log handling equipment (described in statistical reporting number 8431.39.0070)

(43) Backhoe counterweights each weighing more than 400 kg but not more than 600 kg (described in statistical reporting number 8431.49.9044)

(44) Excavator crawler shoes (described in statistical reporting number 8431.49.9044)

(45) Seeder or spreader baffle and baffle assemblies (described in statistical reporting number 8432.90.0060)

(46) Seeder or spreader frames (described in statistical reporting number 8432.90.0060)

(47) Seeder or spreader handles (described in statistical reporting number 8432.90.0060)

(48) Seeder or spreader hopper assemblies (described in statistical reporting number 8432.90.0060)

(49) Seeder or spreader hopper grates (described in statistical reporting number 8432.90.0060)

(50) Seeder or spreader impellers (described in statistical reporting number 8432.90.0060)

(51) Chipper/shredder machines, electrically powered (described in statistical reporting number 8436.80.0090)

(52) Chipper/shredder machines, gasoline powered, valued less than $250 per unit (described in statistical reporting number 8436.80.0090)

(53) Malt production equipment (described in statistical reporting number 8436.80.0090)

(54) Horizontal lathes, electrically powered not over 1.5 horsepower (described in statistical reporting number 8458.19.0020)

(55) Feeder and vibratory flow equipment and parts thereof designed for use in screening or sorting machines; housings and noise reduction enclosures; the foregoing described in statistical reporting number 8474.90.0010)

(56) Press machines for bamboo or other materials of a woody nature (described in statistical reporting number 8479.30.0000)

(57) Electric wire coil-winder machines (described in statistical reporting number 8479.81.0000)

(58) Insulated mixing chambers of stainless steel, each having a capacity of 5 m³ to 25 cubic meters (described in statistical reporting number 8479.82.0040)

(59) Check valves of steel having an internal diameter not less than 4.8 cm or exceeding 62.5 cm (described in statistical reporting number 8481.30.2090)

(60) Bodies of pressure-reducing valves other than hand-operated or check valves and valves classified in 8481.20, such bodies of brass (described in statistical reporting number 8481.90.9060)

(61) Bodies of valves other than hand-operated or check valves and valves classified in 8481.20, such bodies measuring over 18 cm but not exceeding 19 cm in length, valued over $55 but not over $65 per unit (described in statistical reporting number 8481.90.9060)

(62) Flanged wheel hub bearing units with ball bearings, each having an inner diameter exceeding 2.2 cm but not exceeding 2.8 cm (described in statistical reporting number 8482.10.5016)

(63) Wheel hub angular contact bearing units, not flanged, valued over $2 but not over $10 per unit (described in statistical reporting number 8482.10.5024)

(64) Inner bearing rings (described in statistical reporting number 8482.99.0500)

(65) Non-toothed gears for office printers, each valued not over $7 (described in statistical reporting number 8483.40.9000)

(66) Non-grooved pulleys, each incorporating a deep groove roller bearing (described in statistical reporting number 8483.50.9080)

(67) Non-grooved pulleys, zinc plated, each valued not over $3 (described in statistical reporting number 8483.50.9080)

(68) Hubs for conveyor pulleys with an outside diameter of more than 5 cm but not more than 56 cm (described in statistical reporting number 8483.90.8080)

(69) Handles for machinery (described in statistical reporting number 8487.90.0080)

(70) Electric motors of a width exceeding 7.5 cm but not exceeding 7.8 cm (described in statistical reporting number 8501.10.4060)

(71) DC motors, each valued over $125, with attached stranded copper cord (described in statistical reporting number 8501.31.2000)

(72) AC motors, multi-phase, each of an output exceeding 75 kW but less than 149.2 kW (described in statistical reporting number 8501.53.4080)

(73) AC generators, each weighing over 250 kg but not more than 1 metric ton and valued not over $2,400 (described in statistical reporting number 8501.62.0000)

(74) Transformers designed to control horizontal motion of electron beams in cathode-ray tubes (described in statistical reporting number 8504.33.0020)

(75) Static converter covers, bases and housings (described in statistical reporting number 8504.90.9650)

(76) Furnace casings (described in statistical reporting number 8514.90.8000)

(77) Structural components for industrial furnaces (described in statistical reporting number 8514.90.8000)

(78) Manually operated rework stations, including soldering/desoldering stations (described in statistical reporting number 8515.19.0000)

(79) Machines and apparatus for arc (including plasma arc) welding, each valued not over $500 (described in statistical reporting number 8515.39.0020)

(80) Hand-held transceivers (except Citizen's Band and except low-power radiotelephonic operating on frequencies from 49.82 MHz to 49.90 MHz), valued not over $70 each (described in statistical reporting number 8525.60.1030)

(81) Fixed capacitors valued not over $4 per unit (described in statistical reporting number 8532.10.0000)

(82) Fixed oil-filled capacitors rated at 1 kV to 25 kV (described in statistical reporting number 8532.10.0000)

(83) Tantalum capacitors having a conductive polymer cathode, valued not over $4 per unit (described in statistical reporting number 8532.21.0050)

(84) Tantalum capacitors, each measuring 7.3 mm by 4.3 mm by 1.9 mm and valued not over $4 (described in statistical reporting number 8532.21.0050)

(85) Aluminum electrolytic capacitors, each valued not over $2.50 (described in statistical reporting number 8532.22.0085)

(86) Contactors, for a voltage not exceeding 60 V and with contacts rated at or more than 10 A, each valued not over $18 (described in statistical reporting number 8536.41.0045)

(87) Rotary switches, rated at over 5 A, measuring not more than 5.5 cm by 5.0 cm by 3.4 cm, each with 2 to 8 spade terminals and an actuator shaft with D-shaped cross section (described in statistical reporting number 8536.50.9025)

(88) Rotary switches, single pole, single throw (SPST), rated at over 5 A, each measuring not more than 14.6 cm by 8.9 cm by 14.1 cm (described in statistical reporting number 8536.50.9025)

(89) Momentary contact switches rated at or under 5 A, each designed for use as a motor vehicle overdrive switch (described in statistical reporting number 8536.50.9031)

(90) Momentary contact switches rated at or under 5 A, valued not over $4 per unit (described in statistical reporting number 8536.50.9031)

(91) Rocker switches, for a voltage not exceeding 1,000 V, designed for use in motor vehicles (described in statistical reporting number 8536.50.9065)

(92) Molded buttons (described in statistical reporting number 8538.90.6000)

(93) Molded housings and covers (described in statistical reporting number 8538.90.6000)

(94) Tanks for dead tank circuit breakers, of aluminum (described in statistical reporting number 8538.90.8120)

(95) Aluminum anodes for use with machines and apparatus for electroplating, electrolysis or electrophoresis (described in statistical reporting number 8543.30.9080)

(96) Chlorine generator chambers containing titanium plates for use with machines and apparatus for electroplating, electrolysis or electrophoresis (described in statistical reporting number 8543.30.9080)

(97) Zinc anodes for use with machines and apparatus for electroplating, electrolysis or electrophoresis (described in statistical reporting number 8543.30.9080)

(98) Weather station sets, each consisting of a monitoring display and outdoor weather sensors, having a transmission range of not over 140 m and valued not over $50 per set (described in statistical reporting number 9015.80.8080)

(99) Veterinary ultrasound device with black-and-white image quality used as a medical diagnostic tool (described in statistical reporting number 9018.12.0000)

(100) Microwave ablation antennas, whether or not with attached controls, as parts of ablation systems used to ablate live tumors (described in statistical reporting number 9018.90.6000)

(101) Parts and accessories of electro-surgical instruments and appliances, other than extracorporeal shock wave lithotripters (described in statistical reporting number 9018.90.6000)

(102) Smoke evacuation pencils with accompanying tubing and hoses designed to integrate smoke evacuation into electrosurgery by combining both features into a single handpiece, which is designed to apply mono-polar electrosurgical energy to target tissue in a surgical setting while simultaneously evacuating smoke from the surgical site (described in statistical reporting number 9018.90.6000)

(103) Suction coagulators, consisting of a hand-piece with mechanical and/or electrical controls and a disposable shaft, used for the coagulation of tissue and aspiration of fluids during surgical procedures (described in statistical reporting number 9018.90.6000)

(104) Vessel sealing and dividing devices that use electrical energy to separate and seal tissue during open or laparoscopic surgical procedures, consisting of a handpiece with mechanical and/or electrical controls, and a bipolar electrode intended to deliver electrosurgical current from a system generator directly to tissues for cutting/coagulation/ablation (described in statistical reporting number 9018.90.6000)

(105) Dental X-ray alignment and positioning apparatus, each valued over $5,000 (described in statistical reporting number 9022.90.6000)

(106) Multi-leaf collimators of radiotherapy systems based on the use of X-ray (described in statistical reporting number 9022.90.6000)

(107) Overhead tube suspension used to hold and position X-ray generating equipment (described in statistical reporting number 9022.90.6000)

(108) Instruments and apparatus that chemically analyze food to detect the presence of gluten or peanuts, valued at less than $55 per unit (described in statistical reporting number 9027.80.4530)

(109) Picoammeters with recording devices (described in statistical reporting number 9030.39.0100)

(110) Humidistats, each with outdoor sensor, such humidistats valued not over $40 each (described in statistical reporting number 9032.89.6070)”

3. by amending the last sentence of the first paragraph of U.S. note 20(a) to subchapter III of chapter 99 by:

a. Deleting the word “or” where it appears after the phrase “U.S. note 20(k) to subchapter III of chapter 99;”; and

b. inserting “; or (6) heading 9903.88.11 and U.S. note 20(n) to subchapter III of chapter 99” after the phrase “U.S. note 20(m) to subchapter III of chapter 99”, where it appears at the end of the sentence.

4. by amending the first sentence of U.S. note 20(b) to subchapter III of chapter 99 by:

a. Deleting the word “or” where it appears after the phrase “U.S. note 20(k) to subchapter III of chapter 99;”; and

b. inserting “; or (6) heading 9903.88.11 and U.S. note 20(n) to subchapter III of chapter 99” after the phrase “U.S. note 20(m) to subchapter III of chapter 99”, where it appears at the end of the sentence.

5. by amending the Article Description of heading 9903.88.01:

a. by deleting “9903.88.08 or”;

b. by inserting in lieu thereof “9903.88.08, ”; and

c. by inserting “or 9903.88.11,” after “9903.88.10,”.

B. Effective with respect to goods entered for consumption, or withdrawn from warehouse for consumption, on or after 12:01 a.m. eastern daylight time on July 6, 2018, U.S. note 20(k)(26) to subchapter III of chapter 99 of the Harmonized Tariff Schedule of the United States is modified by deleting “DC electric motors, of an output of less than 18.65 W, valued over $4, other than brushless (described in statistical reporting number 8501.10.4060)” and inserting “Electric motors of a width exceeding 7.5 mm but not exceeding 43 mm (described in statistical reporting number 8501.10.4060)” in lieu thereof.

C. Effective with respect to goods entered for consumption, or withdrawn from warehouse for consumption, on or after 12:01 a.m. eastern daylight time on July 6, 2018, U.S. note 20(m)(27) to subchapter III of chapter 99 of the Harmonized Tariff Schedule of the United States is modified by deleting “8427.10.8090” and inserting “8427.10.8070 and 8427.10.8095” in lieu thereof.

D. Effective with respect to goods entered for consumption, or withdrawn from warehouse for consumption, on or after 12:01 a.m. eastern daylight time on July 6, 2018, U.S. note 20(m)(53) to subchapter III of chapter 99 of the Harmonized Tariff Schedule of the United States is modified by deleting “8404.40.4000” and inserting “8504.40.4000” in lieu thereof.

E. Effective with respect to goods entered for consumption, or withdrawn from warehouse for consumption, on or after 12:01 a.m. eastern daylight time on July 6, 2018, U.S. note 20(m)(54) to subchapter III of chapter 99 of the Harmonized Tariff Schedule of the United States is modified by deleting “8504.40.0000” and inserting “8504.40.4000” in lieu thereof.

[FR Doc. 2019-14562 Filed 7-8-19; 8:45 am]

BILLING CODE 3290-F9-P